DEPARTMENT OF TRANSPORTATION

Federal Aviation Administration

Fifty-Fifth Meeting: RTCA Special Committee 186: Automatic Dependent Surveillance—Broadcast (ADS-B)

AGENCY: Federal Aviation Administration (FAA), DOT.

ACTION: Notice of RTCA Special Committee 186: Automatic Dependent Surveillance Broadcast (ADS-B) meeting.

SUMMARY: The FAA is issuing this notice to advise the public of a meeting of RTCA Special Committee 186: Automatic Dependent Surveillance—Broadcast (ADS-B).

DATES: The meeting will be held October 28, 2011 from 8 a.m. to 5 p.m.

ADDRESSES: The meeting will be held at the RTCA Conference Rooms, 1150 18th Street, NW., Suite 910, Washington, DC 20591.

FOR FURTHER INFORMATION CONTACT: RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186, Automatic Dependent Surveillance—Broadcast (ADS-B) meeting. The agenda will include:

Specific Working Group Sessions

October 24th, 2011

• All Day, WG-4 Application Technical Requirements, MacIntosh-NBAA Room & Colson Board Room.

October 25th, 2011

• All Day, WH-4, This day only at NBAA, 1200 18th Street, NW., 4th Floor, Washington, DC 20036.

October 26th, 2011

• All Day, WG-4, Application Technical Requirements, MacIntosh-NBAA Room and Colson Board Room.

October 27th, 2011

• All Day, WG-3 and EUROCAE WG-51, SG-1—DO-260B/ED-102A Corrigendum-1, MacIntosh-NBAA Room.

October 27th, 2011

• All Day, WG-4, Application Technical Requirements, Colson Board Room.

October 27th, 2011

• All Day, WG-5—DO-282B Corrigendum-1, Joint Meeting with WG-3/SG-1. MacIntosh-NBAA Room.

October 28th, 2011

• Plenary Session (8 a.m.).

Agenda—Plenary Session—Agenda

October 28, 2011

**Joint Session With EUROCAE Working Group 51

RTCA—Washington, DC—MacIntosh-NBAA Room & Hilton—ATA Room

• Chairman's Introductory Remarks.

• Review of Meeting Agenda.

• Review and Approval of the 54th Meeting Summary, RTCA Paper No. 112-11/SC186-309.

• Document Approval: DO-317A/ED-xxx—Aircraft Surveillance Application (ASA) System MOPS.

• Document Approval: Corrigendum-1 for DO-260B/ED-102A—1090MHz Extended Squitter MOPS.

• Document Approval: Corrigendum-1 for DO-282B—Universal Access Transceiver (UAT) MOPS.

• Document Approval: Supplement for DO-312—SPR/INTEROP for ATSA-ITP.

• Flight-deck Interval Management (FIM) MOPS Scope Proposal.

• ADS-B IM Coordination with SC-214/WG-78 for Data Link Rqts—Discussion—Status.

• FAA Surveillance and Broadcast Services (SBS) Program—Status.

• Working Group Reports.

a. WG-1—Operations and Implementation:

• TSAA OSED

b. WG-2—TIS-B MASPS—no report.

c. WG-3—1090 MHz MOPS—(See agenda item #5.).

d. WG-4—Application Technical Requirements—(See agenda item #4.).

e. WG-5—UAT MOPS—(See agenda item #6.).

f. WG-6—Combined ADS-B & ASA MASPS:

• MASPS Development Status & Schedule.

• Date, Place and Time of Next Meeting.

• New Business.

• Other Business.

• Review Action Items/Work Programs.

• Adjourn Plenary Session.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 6, 2011.
Robert L. Bostiga,
Manager, RTCA Advisory Committee.

[FR Doc. 2011-26621 Filed 10-13-11; 8:45 am]

BILLING CODE 4910-13-P